COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and services from the Procurement List previously furnished by such agencies.

DATES: Effective Date: 5/22/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 2/19/2016 (81 FR 8486) and 3/4/2016 (81 FR 11520), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

8340-00-NIB-0019—Tarp, Standard, Polyethylene, 20′ x 25′, Grommets

8340-00-NIB-0020—Tarp, Heavy Duty, Polyethylene, 20′ x 25′, Grommets

Mandatory Source(s) of Supply: Association for Vision Rehabilitation and Employment, Inc., Binghamton, NY

Mandatory for: Total Government Requirement

Contracting Activity: Defense Logistics Agency Troop Support

Distribution: B-List

Service

Service Type: Custodial Service

Service Mandatory for: US Air Force, Air Force Institute of Technology/Air Force Research Laboratories, Wright-Patterson Air Force Base, OH

Mandatory Source(s) of Supply: CW Resources, Inc., New Britain, CT

Contracting Activity: Dept of the Air Force, FA8601 AFLCMC PZIO, Wright-Patterson Air Force Base, OH

Deletions

On 3/18/2016 (81 FR 14837-14838), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 8940-00-131-8761—Dessert Powder, Pudding, Instant,Vanilla

Mandatory Source(s) of Supply: UNKNOWN

Contracting Activity: Defense Logistics Agency Troop Support

NSN(s)—Product Name(s): 7510-00-NIB-0573—Custom Planners & Accessory Kit 7520-01-496-5478—Custom Planners & Accessory Kit

Mandatory Source(s) of Supply: The Chicago Lighthouse for People Who Are Blind or Visually Impaired, Chicago, IL

Contracting Activity: General Services Administration, FSS Household and Industrial Furniture, Arlington, VA

NSN(s)—Product Name(s): 6645-01-516-9630—Slimline Wall Clock—12” Federal Logo—Putty Case

Mandatory Source(s) of Supply: The Chicago Lighthouse for People Who Are Blind or Visually Impaired, Chicago, IL

Contracting Activity: General Services Administration, New York, NY

NSN(s)—Product Name(s): 6645-04-000-3339—Clock, Wall (Postal Service Logo); 6645-04-000-3340; 6645-04-000-3341; 6645-04-000-3342; 6645-04-000-3344; 6645-4-000-4260; 6645-04-000-4261; 6645-04-000-4262; 6645-04-000-4263; 6645-04-000-4264; 6645-04-000-4265; 6645-04-000-4267; 6645-04-000 -4268

Mandatory Source(s) of Supply: The Chicago Lighthouse for People Who Are Blind or Visually Impaired, Chicago, IL

Contracting Activity: U.S. Postal Service

NSN(s)—Product Name(s): 7920-01-482-6034—Cloth, Cleaning, High Performance, Microfiber, Industrial Weight, Blue; 7920-01-482-6040—Cloth, Cleaning, High Performance, Microfiber, Blue; 7920-01-482-6042—Cloth, Cleaning, High Performance, Microfiber, Electronics, Platinum; 7920-01-482-6045—Cloth, Cleaning, Microfiber, Lens, Blue, 24/BX

Mandatory Source(s) of Supply: LC Industries, Inc., Durham, NC

Contracting Activity: General Services Administration, Fort Worth, TX

NSN(s)—Product Name(s): MR 350—Containers, Storage, 12PG; MR 362—Set, Salad Bowl, Event Serverware; MR 363—Set, Pitcher and Tumbler, Event Serverware; MR 364—Set, Ice Bucket and Goblet, Event Serverware; MR 850—Spinner, Salad; MR 1194—Bottle, Water, Reusable, 26oz

Mandatory Source(s) of Supply: Industries for the Blind, Inc., West Allis, WI

Contracting Activity: Defense Commissary Agency

Services

Service Type: Janitorial/Custodial Service

Service is Mandatory for: U.S. Border Patrol, Lynden Station Lynden, WA

Mandatory Source(s) of Supply: Lake Whatcom Residential and Treatment Center, Bellingham, WA

Contracting Activity: U.S. Customs and Border Protection, Border Enforcement Contracting Division, Washington, DC

Service Type: Mailroom Operation Service

Service is Mandatory for: U.S. Customs House: 220 NE. 8th Avenue, Portland, OR

Mandatory Source(s) of Supply: Portland Habilitation Center, Inc., Portland, OR

Contracting Activity: Dept of the Army, W071 ENDIST PORTLAND, Portland, OR

Service Type: Janitorial Service

Service is Mandatory for: Bldgs 736, 658 & 12737; Corner of Quartermaster & D Streets (#); 5th St, Fort Richardson, AK

Mandatory Source(s) of Supply: MQC Enterprises, Inc., Anchorage, AK

Contracting Activity: Dept of the Army, W2SN ENDIST ALASKA, Anchorage, AK

Service Type: Packaging Service

Service is Mandatory for: Hurlburt Field AFB, FL

Mandatory Source(s) of Supply: Lakeview Center, Inc., Pensacola, FL

Contracting Activity: Dept of the Air Force, FA4417 1 SOCONS LGC, Hurlburt Field AFB, FL

Service Type: Preparation of Oil Sample Kits

Service is Mandatory for: Pensacola Naval Air Station, Pensacola, FL

Mandatory Source(s) of Supply: Lakeview Center, Inc., Pensacola, FL

Contracting Activity: Dept of the Navy, Naval Air Warfare Center Air Div, Patuxent River, MD

Service Type: Janitorial/Custodial Service

Service is Mandatory for: Willow Grove Air Reserve Station Center, Bldg. 167 Willow Grove, PA

Mandatory Source(s) of Supply: The Chimes, Inc., Baltimore, MD

Contracting Activity: Dept of the Air Force, FA7014 AFDW PK, Andrews AFB, MD

Service Type: Furnishings Management Service

Service is Mandatory for: Dover Air Force Base: Dover Air Force Base, DE

Mandatory Source(s) of Supply: The Chimes, Inc., Baltimore, MD

Contracting Activity: Dept of the Air Force, FA4497 436 CONS LGC, Dover AFB, DE

Service Type: Food Service Attendant Service

Service is Mandatory for: Hanscom Air Force Base, Hanscom AFB, MA

Mandatory Source(s) of Supply: Work, Incorporated, Dorchester, MA

Contracting Activity: Dept of the Air Force, FA2835 AFLCMC HANSCOM PZI, Hanscom AFB, MA

Barry S. Lineback,
Director, Business Operations.

[FR Doc. 2016-09386 Filed 4-21-16; 8:45 am]

BILLING CODE 6353-01-P